LEGAL SERVICES CORPORATION

Extension of Comment Period for Proposed Changes to LSC Grant Assurances for Calendar Year 2015 Funding

AGENCY: Legal Services Corporation.

ACTION: Notice of extended comment period for the proposed LSC 2015 Grant Assurances.

SUMMARY: The Legal Services Corporation (“LSC”) is extending the public comment period for the proposed LSC 2015 Grant Assurances. The extended comment period is applicable only to Grant Assurances 10 and 11. The proposed LSC grant assurances for calendar year 2015 funding, in redline format indicating the proposed changes to the current “LSC 2014 Grant Assurances,” are available at http://grants.lsc.gov/sites/default/files/Grants/ReferenceMaterials/2015-GrantAssurances-Proposed.pdf.

DATES: All comments and recommendations must be received on or before the close of business on June 20, 2014.

ADDRESSES: Written comments may be submitted by mail, email, or fax to Reginald J. Haley, Office of Program Performance, Legal Services Corporation, 3333 K Street NW., Washington, DC 20007; LSCGrantAssurances@lsc.gov; or (202) 337-6813 (fax). Comments may also be submitted online at http://www.lsc.gov/contact-us.

FOR FURTHER INFORMATION CONTACT: Reginald J. Haley, haleyr@lsc.gov, (202) 295-1545.

SUPPLEMENTARY INFORMATION: In response to recent requests, LSC is extending the comment period for changes proposed for grant assurances 10 and 11. The deadline for comments regarding proposed changes to all other grant assurances remains May 30, 2014.

Grant Assurance #10 requires LSC recipients to give LSC and the U.S. Comptroller General access to records they are entitled to under the provisions of the LSC Act and other applicable law. The proposed change to the grant assurance requires LSC recipients to provide access to records in accordance with Federal law.

Grant Assurance #11 requires LSC recipients to provide LSC, federal agencies, and other auditing or monitoring entities access to financial records, time records, retainer agreements, client trust fund and eligibility records, and client names. As with Grant Assurance #10, the proposed change to the grant assurance requires LSC recipients to provide access to these records in accordance with Federal law.

As part of the grant certifications, LSC has required since 2009 that all applicants for funding consent to the exclusive jurisdiction of the U.S. District Court for the District of Columbia, which is within the D.C. Circuit. The proposed revisions to Grant Assurances 10 and 11 are based on the decision of the United States Court of Appeals for the District of Columbia Circuit in United States v. California Rural Legal Assistance, 722 F.3d 424 (D.C. Cir. 2013), which involved an action to enforce a subpoena for documents held by an LSC recipient. The question before the court was “whether, and[,] if so, which[,] California state privileges and protections apply.” Id. at 427. The court decided that “the answer to the `whether' issue is `no'. . . .” Id. The decision was based entirely on federal law; the court found it unnecessary to consider the nature and extent of the California laws and rules on privileges and protections. The DC Circuit held that “[f]ederal law and not state law governs.” Id.

Under the court's decision, the laws and rules of other states are similarly inapplicable. The court specifically considered the LSC Act and concluded that “Congress has made abundantly clear its intention to regulate the federal programs funded through LSC according to federal and not California standards.” Id. at 428.

Dated: May 23, 2014.
Stefanie K. Davis,
Assistant General Counsel.

[FR Doc. 2014-12460 Filed 5-28-14; 8:45 am]

BILLING CODE 7050-01-P